NUCLEAR REGULATORY COMMISSION

[Docket No. 50-199]

Manhattan College; (Manhattan College Zero Power Reactor); Notice of Approval of Decommissioning Plan and Notice of License Termination

The U.S. Nuclear Regulatory Commission (NRC) is noticing the termination of Facility Operating License No. R-97 for the Manhattan College (MC) Zero Power Reactor (MCZPR).

The NRC has terminated the license of the decommissioned MCZPR, which was in the Leo Engineering Building of Manhattan College, Riverdale, New York, and has released the site for unrestricted use. The licensee requested termination of the license in a letter to NRC dated February 3, 2005. The MCZPR, a 0.1 watt swimming pool reactor, was constructed in 1964 and operated under License No. R-94. The reactor was permanently shut down in 1995. On March 23, 1999, NRC approved the decommissioning plan (DP) dated July 21, 1998, by License Amendment No. 12.

A Notice and Solicitation of Comments Pursuant to 10 CFR 20.1405 and 10 CFR 50.82(b)(5) Concerning Proposed Action to Decommission Manhattan College Zero Power Research Reactor appeared in the Federal Register on February 12, 1999 (64 FR 7214). The staff considered all comments received during the review of the MCZPR decommissioning plan.

The NRC completed its review of the December 2004 final status survey report (FSSR) for the Reactor Facility at Manhattan College School of Engineering. The licensee submitted the report to NRC by letter dated February 3, 2005. The report documented the level of residual radioactivity remaining at the facility and stated that compliance with the criteria as approved in the NRC-approved DP had been demonstrated.

Pursuant to 10 CFR 50.82(b)(6), the NRC staff concluded that the decommissioning has been performed in accordance with the approved DP and that the final terminal radiation survey and associated documentation demonstrate that the facility and site are suitable for release in accordance with the criteria in the NRC-approved DP. Furthermore, on the basis of the decommissioning activities carried out by MC, the NRC's review of the licensee's FSSR, the results of NRC's inspections conducted at MC, and the results of NRC's confirmatory surveys, the NRC has concluded that the decommissioning process is complete and the facility and site are suitable to be released for unrestricted use. Based on the NRC staff's conclusions, Facility Operating License No. R-94 is terminated.

For further details, see the licensee's application for decommissioning dated December 18, 1997, July 21, October 29, and November 10, 1998, and January 6, 1999; License Amendment No. 12 to Facility Operating License No. R-94; the licensee's February 3, 2005, request for license termination; the December 2004 FSSR for the Reactor Facility at the Manhattan College School of Engineering, submitted to NRC by letter dated February 3, 2005 and NRC Inspection Report 50-199/2005-201, dated July 15, 2005. Documents may be examined, and/or copied for a fee, at the NRC's Public Document Room (PDR), at One White Flint North, 11555 Rockville Pike (first floor), Rockville, Maryland. Publicly available records for MC dated after January 30, 2000, will be accessible electronically from the Agencywide Documents Access and Management System (ADAMS) Public Electronic Reading Room on the Internet at the NRC Web site http://www.nrc.gov/reading-rm/adams.html. Persons who do not have access to ADAMS or who have problems in accessing the documents in ADAMS should contact the NRC PDR reference staff at 1-800-397-4209 or 301-415-4737 or at pdr@nrc.gov.

Dated at Rockville, Maryland, this 21st day of October 2005.
For the Nuclear Regulatory Commission.
Brian E. Thomas,
Section Chief, Research and Test Reactors Section, New, Research and Test Reactors Program, Division of Regulatory Improvement Programs, Office of Nuclear Reactor Regulation.

[FR Doc. E5-5992 Filed 10-28-05; 8:45 am]

BILLING CODE 7590-01-P